DEPARTMENT OF THE INTERIOR

Bureau of Land Management

[NV-050-1430-ES; N-41567-38, N-74936, N-75715, N-75843, N-78352, N-78353,N—78354, N-79018]

Notice of Realty Action: Conveyance for Recreation and Public Purposes

AGENCY: Bureau of Land Management.

ACTION: Notice of realty action.

SUMMARY: The public land described in this Notice in the Las Vegas Valley, Clark County, Nevada, has been examined and found suitable for conveyance for recreational or public purposes under the provisions of the Recreation and Public Purposes Act, as amended (43 U.S.C. 869 et. seq.).

FOR FURTHER INFORMATION CONTACT: Jacqueline Gratton, BLM Lead Community Specialist, (702) 515-5054.

SUPPLEMENTARY INFORMATION: The following described public land in the Las Vegas Valley, Clark County, Nevada, has been examined and found suitable for conveyance for recreational or public purposes under the provisions of the Recreation and Public Purposes Act, as amended (43 U.S.C. 869 et. seq.) and the implementing regulations at 43 CFR part 2740. The Clark County School District proposes to use the land for elementary and middle school sites.

N-41567-38—Elementary School

Mount Diablo Meridian

T. 19 S., R. 60 E., sec. 17: Lot 15, 10.3 acres—General location: Northeast of the intersection of Elkhorn Road and Fort Apache Road.

N-74936—Middle School

Mount Diablo Meridian

T. 22 S., R. 60 E., sec 25: E½SE4SW¼NW¼, NW¼SE¼SW¼NW¼, SW¼SE¼NW¼, SW¼SE¼SE¼NW¼, 20 acres—General location: North of the intersection of West Pyle Avenue and Lindell Road.

N-75715—Elementary School

Mount Diablo Meridian

T. 23 S., R. 61 E., sec 4: Lots 14 and 15, N½SW¼NE¼NE¼, 14.63 acres—General location: Southeast of the intersection of Starr Avenue and Placid Street.

N-75843—Elementary School

Mount Diablo Meridian

T. 19 S., R. 60 E., sec 12: Lots 3 and 5, 15.02 acres—General location: Southwest of the intersection of Horse Drive and Bradley Road.

N-78352—Elementary School

Mount Diablo Meridian

T. 19 S., R. 59 E., sec 13: E½SW¼NW¼SE¼, SE¼NW¼SE¼, 15 acres—General location: Northwest of the intersection of Elkhorn Road and North Hualapai Way.

N-78353—Middle School

Mount Diablo Meridian

T. 19 S., R. 59 E., sec 13: E½NE¼SW¼, W½W½NW¼SE¼, 30 acres—General location: Northwest of the intersection of Elkhorn Road and North Hualapai Way.

N-78354—Elementary School

Mount Diablo Meridian

T. 19 S., R. 59 E., sec 24: SE¼SE¼NW¼, E½SW¼SE¼NW¼, 15 acres—General location: Northwest of the intersection of Deer Springs Way and Alpine Ridge Way.

N-79018—Elementary School

Mount Diablo Meridian

T. 22 S., R. 60 E., sec 18: S½S½NE¼NE¼SW¼, SE¼NE¼SW¼, 12.5 acres—General location: Northwest of the intersection of West Ford Avenue and Grand Canyon Drive.

Consisting of a total of 132.45 acres, more or less.

The land is not required for any Federal purpose. Conveyance is consistent with current Bureau planning for this area and would be in the public interest. The conveyance, when issued, will be subject to the provisions of the Recreation and Public Purposes Act and applicable regulations of the Secretary of the Interior and will contain the following reservations to the United States:

1. A right-of-way thereon for ditches and canals constructed by the authority of the United States, Act of August 30, 1890 (43 U.S.C. 945).

2. All minerals shall be reserved to the United States, together with the right to prospect for, mine and remove such deposits from the same under applicable law and such regulations as the Secretary of the Interior may prescribe.

And will be subject to: All valid and existing rights.

Detailed information concerning this action is available for review at the office of the Bureau of Land Management, Las Vegas Field Office, 4701 N. Torrey Pines Drive, Las Vegas, Nevada 89130.

On March 8, 2005, the above described public land will be segregated from all other forms of appropriation under the public land laws, including the general mining laws, except for conveyance under the Recreation and Public Purposes Act, leasing under the mineral leasing laws and disposal under the mineral material disposal laws.

Interested parties may submit comments regarding the proposed classification for conveyance of the lands to the Field Manager, Las Vegas Field Office, 4701 N. Torrey Pines Drive, Las Vegas, Nevada 89130 until April 22, 2005.

Classification Comments: Interested parties may submit comments involving the suitability of the land for elementary and middle school sites. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the lands for elementary and middle school sites. Any adverse comments will be reviewed by the State Director who may sustain, vacate, or modify this realty action. In the absence of any adverse comments, these realty actions will become the final determination of the Department of the Interior. The classification of the land described in this Notice will become effective on May 9, 2005. The lands will not be offered for conveyance until after the classification becomes effective.

Dated: January 31, 2005.
Sharon DiPinto,
Assistant Field Manager, Division of Lands, Las Vegas, NV.

[FR Doc. 05-4421 Filed 3-7-05; 8:45 am]

BILLING CODE 4310-HC-P